DEPARTMENT OF TRANSPORTATION

Federal Highway Administration

Buy America Waiver Notification

AGENCY: Federal Highway Administration (FHWA), DOT.

ACTION: Notice.

SUMMARY: This notice provides information regarding the FHWA's finding that a Buy America waiver is appropriate for certain steel products used in Federal-aid construction projects in Florida and Illinois.

DATES: The effective date of the waiver is July 24, 2008.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate for two specific cases.

In accordance with Division K, section 130, of the “Consolidated Appropriations Act, 2008” (Pub. L. 110-161), the FHWA published a notice of intent to issue a waiver on its Web site on May 28, 2008, for motor brakes and machinery brakes for a Federal-aid project in Florida (http://www.fhwa.dot.gov/construction/contracts/waivers.cfm?id=11). In addition, the FHWA published a notice of intent to issue a waiver on its Web site on June 5, 2008, for guard bars, manganese castings, turnout braces, and weld kits associated with a Federal-aid railroad project in Illinois (http://www.fhwa.dot.gov/construction/contracts/waivers.cfm?id=12). No comments were received in response to either of these notices; therefore, the FHWA concludes that there are no domestic manufacturers for these products and a Buy America waiver is appropriate as provided by 23 CFR 635.410(c)(1).

In accordance with the provisions of section 117 of the “SAFETEA-LU Technical Corrections Act of 2008” (Pub. L. 110-244, 122 Stat.1572), the FHWA is providing this notice as its finding that a waiver of Buy America requirements is appropriate. The FHWA invites public comment on this finding for an additional 15 days following the effective date of the waiver. Comments may be submitted to the FHWA's Web site via the links above to the Florida and Illinois waiver pages noted above.

(Authority: 23 U.S.C. 313; Pub. L. 110-161, 23 CFR 635.410)

Issued on: July 15, 2008.
James D. Ray,
Acting Administrator, Federal Highway Administration.

[FR Doc. E8-16885 Filed 7-22-08; 8:45 am]

BILLING CODE 4910-22-P